DEPARTMENT OF COMMERCE

National Oceanic and Atmospheric Administration

[RTID 0648-XA579]

Pacific Fishery Management Council; Public Meetings

AGENCY: National Marine Fisheries Service, National Oceanic and Atmospheric Administration, Commerce.

ACTION: Notice of public meetings.

SUMMARY: The Pacific Fishery Management Council (Pacific Council) and its advisory entities will hold online public meetings.

DATES: The Pacific Council and its advisory entities will meet online November 9-10, 12-13 and 16-20, 2020, noting there will be no meetings on Wednesday, November 11, observing Veteran's Day, and Saturday, November 14 and Sunday, November 15. The Pacific Council meeting will begin on Friday, November 13, 2020 at 8 a.m. Pacific Standard Time (PST), reconvening at 8 a.m. Monday, November 16, and each day through Friday, November 20, 2020. All meetings are open to the public, except a Closed Session will be held from 8 a.m. to 9 a.m., Friday, November 13, to address litigation and personnel matters. The Pacific Council will meet as late as necessary each day to complete its scheduled business.

ADDRESSES: Meetings of the Pacific Council and its advisory entities will be webinar only.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the proposed agenda and meeting briefing materials.

SUPPLEMENTARY INFORMATION: The November 13 and November 16-20, 2020 meeting of the Pacific Council will be streamed live on the internet. The broadcasts begin initially at 9 a.m. PST Friday, November 13, 2020 and continue at 8 a.m. Monday, November 16 daily through Friday, November 20. No meetings are scheduled for Saturday, November 14 through Sunday, November 15, 2020. Broadcasts end when business for the day is complete. Only the audio portion and presentations displayed on the screen at the Pacific Council meeting will be broadcast. The audio portion for the public is listen-only except that an opportunity for oral public comment will be provided prior to Council Action on each agenda item. You can attend the webinar online using a computer, tablet, or smart phone, using the webinar application. Specific meeting information, including directions on how to join the meeting and system requirements will be provided in the meeting announcement on the Pacific Council's website (see www.pcouncil.org). It is recommended that you use a computer headset to listen to the meeting, but you may use your telephone for the audio-only portion of the meeting.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance November 2020 briefing materials and posted on the Pacific Council website at www.pcouncil.org no later than Friday, October 23, 2020.

A. Call to Order

1. Opening Remarks

2. Roll Call

3. Executive Director's Report

4. Approve Agenda

B. Open Comment Period

1. Comments on Non-Agenda Items

C. Administrative Matters

1. Council Coordination Committee Meeting Report

2. National Marine Fisheries Service Report

3. Standardized Bycatch Reporting Methodology

4. Legislative Matters

5. Fiscal Matters

6. Approval of Council Meeting Record

7. Membership Appointments and Council Operating Procedures

8. Future Council Meeting Agenda and Workload Planning

D. Habitat Issues

1. Current Habitat Issues

E. Pacific Halibut Management

1. 2021 Catch Sharing Plan and Annual Regulations—Final Action

2. Transition of Area 2A Fishery Management—Final Action

3. Non-Indian Commercial-Directed Fishery Regulations for 2021

F. Salmon Management

1. 2021 Preseason Management Schedule

2. Southern Resident Killer Whale Endangered Species Act Consultation—Final Action

3. Southern Oregon/Northern California Coast Coho Endangered Species Act (ESA) Consultation

G. Groundfish Management

1. Gear Switching for Sablefish in the Trawl Catch Share Fishery

2. National Marine Fisheries Service Report

3. Inseason Adjustments for 2020 and 2021 Including Pacific Whiting Set-Asides for 2021—Final Action

4. Sablefish Management Strategy Evaluation Update

5. Assessment Methodology Review—Final Action

H. Coastal Pelagic Species Management

1. Preliminary Review of New Exempted Fishing Permits for 2021

2. Methodology Review Topic Selection

3. Comments on Court Ordered Rulemaking on Harvest Specifications for the Central Subpopulation of Northern Anchovy

I. Highly Migratory Species Management

1. National Marine Fisheries Service Report

2. Recommend International Management Activities

3. Biennial Harvest Specifications and Management Measures

4. Drift Gillnet Fishery Hard Caps Update

Advisory Body Agendas

Advisory body agendas will include discussions of relevant issues that are on the Pacific Council agenda for this meeting and may also include issues that may be relevant to future Council meetings. Proposed advisory body agendas for this meeting will be available on the Pacific Council website https://www.pcouncil.org/ no later than Friday, October 23, 2020.

Schedule of Ancillary Meetings

Day 1—Monday, November 9, 2020

Salmon Advisory Subpanel 8 a.m.

Salmon Technical Team 8 a.m.

Day 2—Tuesday, November 10, 2020

Habitat Committee 8 a.m.

Salmon Advisory Subpanel 8 a.m.

* No Meetings Scheduled observing Veteran's Day, Wednesday, November 11, 2020.

Day 3—Thursday, November 12, 2020

Enforcement Consultants 8 a.m.

Groundfish Advisory Subpanel 8 a.m.

Groundfish Management Team 8 a.m.

Highly Migratory Species Advisory Subpanel 8 a.m.

Highly Migratory Species Management Team 8 a.m.

Scientific and Statistical Committee 8 a.m.

Legislative Committee 10 a.m.

Day 4—Friday, November 13, 2020

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Scientific and Statistical Committee 8 a.m.

Enforcement Consultants As Necessary

* No Meetings Scheduled for Saturday, November 14 through Sunday, November 15, 2020.

Day 5—Monday, November 16, 2020

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Highly Migratory Species Advisory Subpanel 8 a.m.

Highly Migratory Species Management Team 8 a.m.

Enforcement Consultants As Necessary

Day 6—Tuesday, November 17, 2020

California State Delegation 7 a.m.

Oregon State Delegation 7 a.m.

Washington State Delegation 7 a.m.

Coastal Pelagic Species Advisory Subpanel 8 a.m.

Coastal Pelagic Species Management Team 8 a.m.

Groundfish Advisory Subpanel 8 a.m.

Groundfish Management Team 8 a.m.

Enforcement Consultants As Necessary

Day 7—Wednesday, November 18, 2020

California State Delegation 7 a.m.

Oregon State Delegation 7 a.m.

Washington State Delegation 7 a.m.

Groundfish Advisory Subpanel 8 a.m.

Groundfish Management Team 8 a.m.

Enforcement Consultants As Necessary

Day 8—Thursday, November 19, 2020

California State Delegation 7 a.m.

Oregon State Delegation 7 a.m.

Washington State Delegation 7 a.m.

Enforcement Consultants As Necessary

Day 9—Friday, November 20, 2020

California State Delegation 7 a.m.

Oregon State Delegation 7 a.m.

Washington State Delegation 7 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

Requests for sign language interpretation or other auxiliary aids should be directed to Mr. Kris Kleinschmidt at (503) 820-2412 at least ten business days prior to the meeting date.

Authority: 16 U.S.C. 1801 et seq.

Dated: October 19, 2020.
Tracey L. Thompson,
Acting Deputy Director, Office of Sustainable Fisheries, National Marine Fisheries Service.

[FR Doc. 2020-23436 Filed 10-21-20; 8:45 am]

BILLING CODE 3510-22-P